DEPARTMENT OF THE TREASURY

Office of the Comptroller of the Currency

FEDERAL RESERVE SYSTEM

FEDERAL DEPOSIT INSURANCE CORPORATION

Agency Information Collection Activities: Submission for OMB Review; Joint Comment Request

AGENCY: Office of the Comptroller of the Currency (OCC), Treasury; Board of Governors of the Federal Reserve System (Board); and Federal Deposit Insurance Corporation (FDIC).

ACTION: Notice of information collections to be submitted to Office of Management and Budget (OMB) for review and approval under the Paperwork Reduction Act of 1995 (PRA).

SUMMARY: In accordance with the requirements of the PRA (44 U.S.C. chapter 35), the OCC, the Board, and the FDIC (the agencies) may not conduct or sponsor, and the respondent is not required to respond to, an information collection unless it displays a currently valid OMB control number.

On April 18, 2016, the agencies, under the auspices of the Federal Financial Institutions Examination Council (FFIEC), published a notice in the Federal Register (81 FR 22702) to request public comment on a proposal to extend, with revision, the Regulatory Capital Reporting for Institutions Subject to the Advanced Capital Adequacy Framework (FFIEC 101), which is a currently approved information collection. On April 27, 2016, the agencies published a correction of the April 18 notice in the Federal Register (81 FR 24940). The agencies proposed to collect supplementary leverage ratio (SLR) data in new SLR Tables 1 and 2 of FFIEC 101 Schedule A from all banking organizations subject to the advanced approaches risk-based capital rule (generally, banking organizations with $250 billion or more in total consolidated assets or $10 billion or more in on-balance sheet foreign exposures) (advanced approaches banking organizations), unless the advanced approaches banking organization is (i) a consolidated subsidiary of a bank holding company (BHC), savings and loan holding company (SLHC), or depository institution that is subject to the disclosure requirements in Table 13 of section 173 of the advanced approaches risk-based capital rule (advanced approaches rule), or (ii) a subsidiary of a non-U.S. banking organization that is subject to comparable public disclosure requirements in its home jurisdiction. Advanced approaches banking organizations would begin reporting the proposed SLR data items in FFIEC 101 Schedule A, SLR Tables 1 and 2, effective with the September 30, 2016, reporting date.

Separately, the proposed collection of SLR data in SLR Tables 1 and 2 of FFIEC 101 Schedule A would apply to any U.S. intermediate holding companies (IHCs) formed or designated for purposes of compliance with the Board's Regulation YY (12 CFR 252.153) that are advanced approaches banking organizations, effective with the March 31, 2018, reporting date (advanced approaches IHC). Any subsidiary BHC controlled by a foreign banking organization (FBO) that was subject to the SLR requirements prior to the formation of an IHC would complete FFIEC 101 Schedule A, SLR Tables 1 and 2, through the December 31, 2017, reporting date.

In addition, the agencies proposed that an advanced approaches banking organization should provide its Legal Entity Identifier (LEI) on the cover page of the report beginning September 30, 2016, only if the organization already has an LEI.

The comment period for this proposal expired on June 27, 2016. The agencies did not receive any comments addressing the proposed changes and are now submitting requests to OMB for review and approval of the extension, with revision, of the FFIEC 101. As had been proposed, these reporting changes would take effect as of the September 30, 2016, or the March 31, 2018, report date, as applicable.

DATES: Comments must be submitted on or before September 19, 2016.

ADDRESSES: Interested parties are invited to submit written comments to any or all of the agencies. All comments, which should refer to the OMB control numbers, will be shared among the agencies.

OCC: Because paper mail in the Washington, DC area and at the OCC is subject to delay, commenters are encouraged to submit comments by email, if possible, to prainfo@occ.treas.gov. Alternatively, comments may be sent to: Legislative and Regulatory Activities Division, Office of the Comptroller of the Currency, Attention “1557-0239, FFIEC 101,” 400 7th Street SW., Suite 3E-218, Mail Stop 9W-11, Washington, DC 20219. In addition, comments may be sent by fax to (571) 465-4326.

You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information in your comment or supporting materials that you consider confidential or inappropriate for public disclosure.

Board: You may submit comments, which should refer to “FFIEC 101,” by any of the following methods:

• Agency Web site: http://www.federalreserve.gov. Follow the instructions for submitting comments at: http://www.federalreserve.gov/generalinfo/foia/ProposedRegs.cfm.

• Federal eRulemaking Portal: http://www.regulations.gov. Follow the instructions for submitting comments.

• Email: regs.comments@federalreserve.gov. Include reporting form number in the subject line of the message.

• FAX: (202) 452-3819 or (202) 452-3102.

• Mail: Robert DeV. Frierson, Secretary, Board of Governors of the Federal Reserve System, 20th Street and Constitution Avenue NW., Washington, DC 20551.

All public comments are available from the Board's Web site at www.federalreserve.gov/generalinfo/foia/ProposedRegs.cfm as submitted, unless modified for technical reasons. Accordingly, your comments will not be edited to remove any identifying or contact information. Public comments may also be viewed electronically or in paper in Room MP-500 of the Board's Martin Building (20th and C Streets NW.) between 9:00 a.m. and 5:00 p.m. on weekdays.

FDIC: You may submit comments, which should refer to “FFIEC 101,” by any of the following methods:

• Agency Web site: https://www.fdic.gov/regulations/laws/federal/. Follow the instructions for submitting comments on the FDIC Web site.

• Federal eRulemaking Portal: http://www.regulations.gov. Follow the instructions for submitting comments.

• Email: comments@FDIC.gov. Include “FFIEC 101” in the subject line of the message.

• Mail: Manuel E. Cabeza, Counsel, Attn: Comments, Room MB-3105, Federal Deposit Insurance Corporation, 550 17th Street NW., Washington, DC 20429.

• Hand Delivery: Comments may be hand delivered to the guard station at the rear of the 550 17th Street Building (located on F Street) on business days between 7:00 a.m. and 5:00 p.m.

Public Inspection: All comments received will be posted without change to https://www.fdic.gov/regulations/laws/federal/ including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW., Washington, DC 20503; by fax to (202) 395-6974; or by email to oira_submission@omb.eop.gov.

FOR FURTHER INFORMATION CONTACT: For further information about the proposed revisions to the FFIEC 101 discussed in this notice, please contact any of the agency staff whose names appear below. In addition, copies of the FFIEC 101 form and instructions can be obtained at the FFIEC's Web site (http://www.ffiec.gov/ffiec_report_forms.htm).

OCC: Shaquita Merritt, OCC Clearance Officer, (202) 649-5490, or for persons who are deaf or hard of hearing, TTY, (202) 649-5597, Legislative and Regulatory Activities Division, Office of the Comptroller of the Currency, 400 7th Street SW., Washington, DC 20219.

Board: Nuha Elmaghrabi, Federal Reserve Board Clearance Officer, (202) 452-3829, Office of the Chief Data Officer, Board of Governors of the Federal Reserve System, Washington, DC 20551. Telecommunications Device for the Deaf (TDD) users may contact (202) 263-4869.

FDIC: Manuel E. Cabeza, Counsel, (202) 898-3767, Legal Division, Federal Deposit Insurance Corporation, 550 17th Street NW., Washington, DC 20429.

SUPPLEMENTARY INFORMATION: The agencies are proposing to extend for three years, with revision, the FFIEC 101, which is currently an approved collection of information for each agency.

Report Title: Regulatory Capital Reporting for Institutions Subject to the Advanced Capital Adequacy Framework.

Form Number: FFIEC 101.

Frequency of Response: Quarterly.

Affected Public: Business or other for-profit.

OCC

OMB Control No.: 1557-0239.

Estimated Number of Respondents: 20 national banks and federal savings associations.

Estimated Burden per Response: 674 burden hours per quarter to file.

Estimated Total Annual Burden: 53,920 burden hours to file.

Board

OMB Control No.: 7100-0319.

Estimated Number of Respondents: 6 state member banks; 16 bank holding companies and savings and loan holding companies; and 6 intermediate holding companies.

Estimated Burden per Response: 674 burden hours per quarter for state member banks to file, 677 burden hours per quarter for bank holding companies and savings and loan holding companies to file; 3 burden hours per quarter for intermediate holding companies to file; and 300 burden hours for intermediate holding companies' one-time implementation.

Estimated Total Annual Burden: 16,176 burden hours for state member banks to file; 43,328 burden hours for bank holding companies and savings and loan holding companies to file; 72 burden hours for intermediate holding companies to file; 1,800 burden hours for intermediate holding companies' one-time implementation.

FDIC

OMB Control No.: 3064-0159.

Estimated Number of Respondents: 2 insured state nonmember banks and state savings associations.

Estimated Burden per Response: 674 burden hours per quarter to file.

Estimated Total Annual Burden: 5,392 burden hours to file.

Type of Review: Revision and extension of currently approved collections.

General Description of Reports

Each advanced approaches banking organization is required to file quarterly regulatory capital data on the FFIEC's Regulatory Capital Reporting for Institutions Subject to the Advanced Capital Adequacy Framework (FFIEC 101). The FFIEC 101 information collection is mandatory for institutions subject to the advanced approaches risk-based capital rule: 12 U.S.C. 161 (national banks), 12 U.S.C. 324 (state member banks), 12 U.S.C. 1844(c) (bank holding companies), 12 U.S.C. 1467a(b) (savings and loan holding companies), 12 U.S.C. 1817 (insured state nonmember commercial and savings banks), 12 U.S.C. 1464 (savings associations), and 12 U.S.C. 1844(c), 3106, and 3108 (intermediate holding companies).

Abstract

The agencies use the FFIEC 101 data submitted by advanced approaches banking organizations to assess and monitor the levels and components of each reporting entity's capital requirements and the adequacy of the entity's capital under the Advanced Capital Adequacy Framework; to evaluate the impact and competitive implications of the Advanced Capital Adequacy Framework on individual reporting entities and on an industry-wide basis; and to supplement on-site examination processes. The reporting schedules also assist advanced approaches banking organizations in understanding expectations around the system development necessary for implementation and validation of the Advanced Capital Adequacy Framework. Submitted data that are released publicly will also provide other interested parties with information about advanced approaches banking organizations' regulatory capital.

Current Actions

On April 18, 2016, the agencies requested comment on proposed revisions to the FFIEC 101 reporting requirements (April 2016 proposal).¹ On April 27, 2016, the agencies published a correction of the April 18 notice.² These proposed revisions included two new tables that would be added to FFIEC 101 Schedule A to collect information related to the agencies' SLR disclosures required in Table 13 of section 173 of the advanced approaches rule. SLR Tables 1 and 2 would replace existing items 91 through 98 of FFIEC 101 Schedule A, and generally would be aligned with the international leverage ratio common disclosure template that was adopted by the Basel Committee on Banking Supervision in January 2014 (international leverage ratio common disclosure template).³ In addition, the agencies proposed that an advanced approaches banking organization should provide its LEI on the cover page of the report only if the organization already has an LEI.

¹ 81 FR 22702 (April 18, 2016).

² 81 FR 24940 (April 27, 2016).

³ See Basel Committee on Banking Supervision, Basel III leverage ratio framework and disclosure requirements; pages 11-12; available at http://www.bis.org/publ/bcbs270.pdf.

The comment period for the proposal ended on June 27, 2016. The agencies did not receive any comments addressing the proposed changes and are now submitting requests to OMB for review and approval of the extension, with revision, of the FFIEC 101. The proposed reporting of SLR Tables 1 and 2 of Schedule A would take effect as of the September 30, 2016, report date for top-tier advanced approaches BHCs, SLHCs, and insured depository institutions, or the March 31, 2018, report date for advanced approaches IHCs. Any subsidiary BHC controlled by an FBO that was subject to the SLR requirements prior to the formation of an IHC would complete report SLR Tables 1 and 2 of Schedule A, through the December 31, 2017, report date. Additionally, the proposed reporting of the LEI would take effect as of the September 30, 2016, report date.

I. Proposed SLR Changes

A. Introduction

In the April 2016 proposal, the agencies proposed to add two new tables to FFIEC 101 Schedule A to collect information related to the SLR disclosures required in Table 13 of section 173 of the advanced approaches rule.⁴ Proposed SLR Tables 1 and 2, which would replace existing items 91 through 98 of FFIEC 101 Schedule A,⁵ would be aligned with the international leverage ratio common disclosure template, with some minor changes to the titles of the line items and clarifications in the instructions, consistent with the revisions to the SLR in the regulatory capital rule (SLR rule) ⁶ and the accounting terminology of U.S. generally accepted accounting principles. The proposal generally would incorporate the complete international leverage ratio common disclosure template into Schedule A to ensure transparency and comparability of reporting of regulatory capital elements across internationally active banking organizations. The proposed revised Schedule A also would include an additional item applicable to certain advanced approaches BHCs only, which would collect data on an advanced approaches BHC's enhanced SLR buffer, if applicable.

⁴ See 12 CFR 3.173 (OCC); 12 CFR 217.173 (Board); and 12 CFR 324.173 (FDIC).

⁵ Although items 91 through 98 are included on the FFIEC 101 report form, these items are currently shaded out and not collected.

⁶ See 12 CFR 3.10(c)(4) (OCC) for national banks and Federal savings associations; 12 CFR 217.10(c)(4) (Board) for BHCs, SLHCs, and state member banks; 12 CFR 324.10(c)(4) (FDIC, for state nonmember banks and state savings associations), all as amended by 79 FR 57725 (Sept. 26, 2014).

B. Scope, Timing, and Frequency of Proposed Reporting Changes

The proposed revisions to the FFIEC 101 would apply only to an advanced approaches banking organization as described in section 173(a)(2) of the advanced approaches rule effective with the September 30, 2016, report date.⁷ Generally, the SLR disclosures apply to an advanced approaches institution, unless it is (1) a consolidated subsidiary of a BHC, SLHC, or depository institution that is subject to these disclosure requirements; or (2) a subsidiary of a non-U.S. banking organization that is subject to comparable public disclosure requirements in its home jurisdiction. Completing the proposed FFIEC 101 items for the SLR for a given period would satisfy an advanced approaches banking organization's requirement to disclose Table 13 for that period.

⁷ A top-tier advanced approaches banking organization would be required to complete SLR Tables 1 and 2 of FFIEC 101 Schedule A, regardless of parallel run status. Any advanced approaches banking organization that is a consolidated subsidiary of a top-tier advanced approaches BHC, SLHC, or insured depository institution would not complete SLR Tables 1 and 2.

Separately, each advanced approaches banking organization, regardless of its parallel run status, is required to disclose its SLR, and the numerator and denominator of its SLR, under section 172(d) of the advanced approaches rule.⁸ This is a separate disclosure requirement, which the agencies have proposed to implement for banks and savings associations that are advanced approaches banking organizations through a revision to Schedule RC-R, Part I, Regulatory Capital Components and Ratios, of the Consolidated Reports of Condition and Income (Call Report) (FFIEC 031 and 041) ⁹ reporting forms using the standard PRA notice and comment process.¹⁰

⁸ See 12 CFR 3.172(d) (OCC); 12 CFR 217.172(d) (Board); and 12 CFR 324.172(d) (FDIC).

⁹ OMB Numbers: OCC, 1557-0081; Board, 7100-0036; and FDIC, 3064-0052.

¹⁰ See 80 FR 56539 (September 18, 2015) and 81 FR 45357 (July 13, 2016).

An IHC formed or designated for purposes of compliance with the Board's Regulation YY (12 CFR 252.153) is required to meet all applicable capital adequacy standards set forth in the Board's Regulation Q, except for subpart E.¹¹ An IHC that meets the definition of an advanced approaches banking organization under the Board's Regulation Q (12 CFR 217.100) would begin reporting the proposed SLR data items in the FFIEC 101 effective with the March 31, 2018, report date, and would begin calculating these proposed items starting January 1, 2018. This reporting requirement is consistent with Regulation YY, which subjects advanced approaches IHCs to the SLR beginning on January 1, 2018.¹² Such an IHC would not be required to complete the rest of the FFIEC 101 because Regulation YY requires an IHC to calculate its risk-based capital requirements using only the standardized approach, and not the advanced approaches rule, even if it meets the advanced approaches applicability threshold.¹³ Further, any subsidiary BHC that is controlled by an FBO that was subject to the SLR disclosures prior to the formation of an IHC would complete FFIEC 101 Schedule A, SLR Tables 1 and 2, through the December 31, 2017, report date.

¹¹ See 12 CFR 252.153(e)(2)(i)(A).

¹² See Id.

¹³ An IHC that chooses to comply with subpart E of 12 CFR part 217 would be required to report the entirety of the FFIEC 101. See 12 CFR 252.153(e)(2)(i)(B). In contrast, a BHC that is a subsidiary of a FBO that is subject to subpart E of 12 CFR part 217, but that has received prior written approval from the Board to not comply with subpart E of 12 CFR part 217, would not be required to report the entire FFIEC 101, but generally would be expected to complete Schedule A. See 12 CFR 252.153(e)(2)(i)(C).

Depository institutions that are exempt from filing the FFIEC 101, but remain subject to the SLR, would not need to begin filing the FFIEC 101. Instead, these institutions would report their SLR, and the numerator and denominator of their SLR, under the proposed Call Report revisions discussed above.

The agencies proposed to collect the SLR information in SLR Tables 1 and 2 of FFIEC 101 Schedule A quarterly. Each reporting entity would continue to submit the applicable quarterly reports on the same due dates as are currently in effect for the reporting entity for as long as it remains subject to the requirements of section 173(a)(2) of the advanced approaches rule.

C. Confidentiality

To ensure transparency of regulatory capital data reported by internationally active banking organizations, the agencies proposed to make public the SLR information collected in proposed SLR Tables 1 and 2 of FFIEC 101 Schedule A, regardless of an advanced approaches banking organization's parallel run status.

D. Initial Reporting

For the September 30, 2016, and March 31, 2018, initial report dates, as applicable, banking organizations may provide reasonable estimates for any new or revised items in SLR Tables 1 and 2 of FFIEC 101 Schedule A initially required to be reported as of that date for which the requested information is not readily available.

E. Summary of the Proposed FFIEC 101 SLR Data Changes

The proposed SLR items in FFIEC 101 Schedule A are divided into two tables: (1) Summary comparison of accounting assets and total leverage exposure (SLR Table 1) and (2) Supplementary leverage ratio (SLR Table 2). Proposed SLR Table 1, items 1.1 through 1.8, would collect summary information on an institution's accounting assets for purposes of reconciling balance sheet assets reported in published financial statements and total leverage exposure.

Proposed SLR Table 2, items 2.1 through 2.23, would collect detailed information for the calculation of an institution's total leverage exposure and the SLR, consistent with the international leverage ratio common disclosure template. Items 2.1 through 2.3 would collect information about an institution's on-balance sheet exposures. Items 2.4 through 2.11 would collect information about an institution's derivative exposures. Items 2.12 through 2.16 would collect information about an institution's repo-style transactions. Items 2.17 through 2.19 would collect information about an institution's off-balance sheet exposures. Items 2.20 through 2.22 would collect information about an institution's capital, total leverage exposure, and the SLR. Item 2.23, the enhanced SLR buffer, is an additional line item that is not included on the international leverage ratio common disclosure template. This item would apply only to an advanced approaches BHC that is subject to the enhanced SLR standard and would help determine whether the BHC is subject to limitations on capital distributions and discretionary bonus payments.¹⁴

¹⁴ 79 FR 24528 (May 1, 2014); 80 FR 49082 (August 14, 2015).

In the revised draft instructions for proposed SLR Tables 1 and 2 of FFIEC 101 Schedule A, the agencies are clarifying the reporting treatment of variation margin disputes in relation to derivative transactions. In particular, if a dispute over the correct amount of variation margin arises between a banking organization and a counterparty, the banking organization may recognize the amount of variation margin that has been transferred as long as the parties are acting in accordance with agreed-upon practices to settle a disputed trade and all other conditions for qualifying cash variation margin are met.

II. Reporting the Legal Entity Identifier

The LEI is a 20-digit alphanumeric code that uniquely identifies entities that engage in financial transactions. The LEI system is designed to facilitate several financial stability objectives, including the provision of higher quality and more accurate financial data.

The agencies proposed to have an advanced approaches banking organization provide its LEI on the cover page of the FFIEC 101 beginning September 30, 2016, only if the organization already has an LEI. The LEI must be a currently issued, maintained, and valid LEI, not an LEI that has lapsed. An advanced approaches banking organization that does not have an LEI would not be required to obtain one for purposes of reporting it on the FFIEC 101.

III. Request for Comment

Public comment is requested on all aspects of this joint notice. Comments are invited on:

(a) Whether the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies. All comments will become a matter of public record.

Dated: August 11, 2016.
Stuart Feldstein,
Director, Legislative and Regulatory Activities, Office of the Comptroller of the Currency.
Board of Governors of the Federal Reserve System, August 12, 2016.
Robert deV. Frierson,
Secretary of the Board.
Dated at Washington, DC, this 12th day of August, 2016.
Federal Deposit Insurance Corporation.
Robert E. Feldman,
Executive Secretary.

[FR Doc. 2016-19721 Filed 8-17-16; 8:45 am]

BILLING CODE 4810-33-6210-01-6714-01-P